DEPARTMENT OF HEALTH AND HUMAN SERVICES

Centers for Disease Control and Prevention

[60Day-26-1027; Docket No. CDC-2026-0232]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Generic Clearance for the Collection of Qualitative Feedback on Agency Service Delivery. The purpose of the collection is to enable and facilitate the CDC's collection and internal processing of customer and partner feedback in a timely manner, in alignment with CDC's commitment to improving service delivery.

DATES: CDC must receive written comments on or before April 13, 2026.

ADDRESSES: You may submit comments, identified by Docket No. CDC-2026-0232 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Generic Clearance for the Collection of Qualitative Feedback on Agency Service Delivery (OMB Control No. 0920-1027, Exp. 6/30/2026)—Extension—National Center for HIV, Viral Hepatitis, STD, and TB Prevention (NCHHSTP), Centers for Disease Control and Prevention (CDC).

Background and Brief Description

The Centers for Disease Control and Prevention (CDC), National Center for HIV, Viral Hepatitis, STD, and TB Prevention (NCHHSTP) requests an extension of the currently approved Generic Clearance for the Collection of Qualitative Feedback on Agency Service Delivery for a period of three years. The previously approved Generic Clearance will remain unchanged. This Extension is necessary to align with CDC's commitment to service delivery improvement, prioritization of Gold Standard Science, and maintenance of public trust.

As a means of ensuring our programs are effective and meet our customers' needs, CDC/NCHHSTP (hereafter “the Agency”) utilizes this Generic Clearance to collect qualitative feedback on our service delivery. For the purposes of this Generic Clearance, qualitative feedback means information that provides useful insights on perceptions and opinions but are not statistical surveys that yield quantitative results that can be generalized to the population of study. This collection of information is necessary for the Agency to gather customer and partner feedback in an efficient, timely manner, in accordance with our commitment to improving service delivery, enhancing public trust, and prioritizing Gold Standard Science. Qualitative data collected from our customers and partners helps CDC ensure that they have effective, efficient, and satisfying experiences with the Agency's programs. This feedback provides valuable insights into customer or partner perceptions, experiences and expectations, provides an early warning of service and/or quality issues, and focuses attention on areas where communication, training, or operational adjustments might improve delivery of products or services. These collections are a useful tool in facilitating ongoing, collaborative, actionable communication between the Agency and its customers and partners. Such feedback contributes directly to improving CDC's program management efforts. This information collection represents CDC/NCHHSTP's attempt to gather feedback data on CDC services and programs. There is currently no information available that can substitute for the responses to the data collection instruments and provide essential program improvement information. No similar data is gathered and/or maintained by the Agency or is available from other sources known to the Agency.

In the previous three-year approval period, the Agency used 346 burden hours over eight collection activities. However, we anticipate more robust usage of this mechanism over the next three years due to CDC's renewed emphasis on public trust and accountability, prioritization of Gold Standard Science, and recommitment to high-quality customer and interest holder experiences. As with previous approvals, the Agency will only submit collections for approval under this Generic Clearance that meet the following conditions:

1. Information gathered is used solely on an internal basis for general service improvement and program management purposes and is not intended for release outside of the agency;

2. Information gathered will not be used for the purpose of substantially informing influential policy decisions;

3. Information gathered will yield qualitative information; the collections will not be designed or expected to yield statistically reliable results or used as though the results are generalizable to the population of study;

4. The collections are voluntary;

5. The collections are low burden for respondents (based on considerations of total burden hours, total number of respondents, or burden hours per respondent) and are low-cost for both the respondents and the federal government;

6. The collections are non-controversial and do not raise issues of concern to other federal agencies;

7. Any collection is targeted to the solicitation of opinions from respondents who have experience with the program or may have experience with the program in the near future;

8. Except for information needed to provide token of appreciation for focus group or key informant participants and cognitive laboratory studies, personally identifiable information (PII) is collected only to the extent necessary and is not retained.

If these conditions are not met, the Agency will submit an information collection request (ICR) to the Office of Management and Budget (OMB) for approval through the normal Paperwork Reduction Act (PRA) process.

Collection types under this Generic Clearance include, but are not limited to:

• Customer comment cards/complaint forms;

• Small discussion groups;

• Focus Groups of customers, potential customers, delivery partners, or other interest holders;

• Key informant interviews of customers, potential customers, implementing partners, or other interest holders;

• Cognitive laboratory studies, such as those used to refine questions or assess usability of a website;

• Qualitative customer satisfaction surveys (e.g., post-transaction surveys; opt-out web surveys);

• In-person or virtual observation testing (e.g., website or software usability tests);

• Other observational methods (e.g., direct observations, ethnography)

The Agency has established a manager/managing entity to serve for this Generic Clearance and will conduct an independent review of each information collection to ensure compliance with the terms of this clearance prior to submitting each collection to OMB.

There is no change to the previously approved burden estimate. The estimated annualized burden hours for this data collection are 9,690 hours. There are no costs to respondents other than their time.

Estimated Annualized Burden Hours
Type of collection | Number of respondents | Annual frequency per response | Average burden per response (hours) | Total burden (hours)
Online surveys | 10,500 | 1 | 30/60 | 5,250
Discussion groups | 280 | 1 | 2 | 560
Focus groups | 640 | 1 | 2 | 1,280
Website/app usability testing | 2,000 | 1 | 30/60 | 1,000
Interviews | 800 | 1 | 2 | 1,600
Total | 14,220 |  |  | 9,690

Jeffrey M. Zirger,
Lead, Information Collection Review Office, Office of Public Health Ethics and Regulations, Office of Science, Centers for Disease Control and Prevention.

[FR Doc. 2026-02653 Filed 2-10-26; 8:45 am]

BILLING CODE 4163-18-P